ENVIRONMENTAL PROTECTION AGENCY

[OEI-2002-0006; FRL-6724-6]

Toxic Chemical Release Reporting; Community Right-To-Know; Notice of On-Line Dialogue

AGENCY: Environmental Protection Agency (EPA).

ACTION: Notice of Availability.

SUMMARY: EPA will hold an on-line public dialogue for 60-days from October 16, 2002 to December 17, 2002 as part of a national Stakeholder Dialogue on the Toxics Release Inventory (TRI) Program that the Environmental Protection Agency (EPA) is launching. EPA is seeking suggestions and ideas on the Agency's methods for reporting, collecting, processing, and releasing the TRI data. Instructions for participating in the on-line dialogue are posted at EPA's TRI Web site, see http://www.epa.gov/tri/programs/stakeholders/outreach.htm. EPA is announcing the availability of three issue papers which are intended to provide background to help focus the on-line dialogue.

DATES: The Stakeholder Dialogue online comment process will be held from October 16, 2002 to December 17, 2002.

ADDRESSES: The On-line Dialogue will be accessible via the Internet at http://www.epa.gov/tri/programs/stakeholders/outreach.htm. Please follow the instructions provided in Section I of the SUPPLEMENTARY INFORMATION section of this notice.

FOR FURTHER INFORMATION CONTACT: For information on this stakeholder process, contact: Annette Marion, Environmental Protection Agency, Office of Environmental Information, Office of Information Analysis and Access, Toxics Release Inventory Program Division: telephone: (202) 566-0731; Fax number: (202) 566-0715; e-mail: marion.annette@epa.gov. For general information on the Toxics Release Inventory contact the Emergency Planning and Community Right-to-Know Hotline at (800) 424-9346, or (703) 412-9810, TDD (800) 553-7672, http://www.epa.gov/epaoswer/hotline.

SUPPLEMENTARY INFORMATION:

I. General Information

A. Does This Notice Apply to Me?

You may be interested in this notice if you use data collected under the Emergency Planning and Community Right-to-know Act (EPCRA) section 313, or if you manufacture, process, or otherwise use any of the EPCRA section 313 chemicals and you are required to report annually to EPA their environmental releases and other waste management quantities. Potentially affected entities may include, but are not limited to:

Category | Examples of potentially interested entities
Public | Environmental groups, community groups, researchers.
Industry | SIC major group codes (Except 1011, 1081, and 1094), 12 (except 1231), or 20 through 39; industry codes 4911 (limited to facilities that combusts coal and/or oil for the purpose of generating power for distribution in commerce); or 4939 (limited to facilities that combusts coal and/or oil for the purpose of generating power for distribution in commerce); or 4953 (limited to facilities regulated under the Resource Conservation and Recovery Act, subtitle C, 42 U.S.C. section 6921 et seq.), or 5169, or 5171, or 7389 (limited to facilities primarily engaged in solvent recovery services on a contract or fee basis).
Federal Government | Federal facilities in any SIC code.

This table is not intended to be exhaustive, but rather provides a guide for readers regarding entities likely to be affected by this action. Other types of entities not listed in the table could also be affected. If you have questions regarding the applicability of this action to a particular entity, consult the person listed in the preceding FOR FURTHER INFORMATION CONTACT section.

B. How Can I Get Copies of Information Associated With This Stakeholder Dialogue Process?

1. Electronic Access. Electronic copies of the issue papers are available from EPA's TRI Web site at http://www.epa.gov/tri/programs/stakeholders/outreach.htm. You may access this Federal Register document electronically through the EPA Internet under the “Federal Register” listings at http://www.epa.gov/fedrgstr/.

An electronic version of the public docket is available through EPA's electronic public docket, EPA Dockets (http://www.epa.gov/edocket/). To view the contents of the docket, go to the EPA Dockets web site. Once in the system, select “search,” then key in the appropriate docket identification number, OEI-2002-0006.

2. Docket. EPA has established an official public docket for this action under Docket ID No. OEI-2002-0006. The official public docket consists of the documents specifically referenced in this action and other information related to this action. The official public dockets are the collection of materials available for public viewing at the EPA Docket Center Public Reading Room located in the basement of EPA West, 1301 Constitution Avenue, NW., Washington, DC 20460. This Docket Facility is open from 8:30 am to 4:30 pm, Monday through Friday, excluding legal holidays. The Docket telephone number is (202)-566-1752.

C. How Do I Participate in the On-line Dialogue?

You may submit your ideas and suggestions electronically through the TRI Stakeholder Outreach Web site at: http://www.epa.gov/tri/programs/stakeholders/outreach.htm during the time period specified in this notice.

D. How Should I Handle Confidential Business Information (CBI) That I Want To Submit to the Agency?

Do not submit any information that you consider to be confidential business information (CBI) under this notice.

II. Background

EPA is undertaking a stakeholder dialogue for the Toxics Release Inventory (TRI) program. While the TRI program has been very successful, EPA is continuing to seek ways to improve the program. Given the community focus of the TRI program and the broad and varied uses of the TRI data, it is important that EPA receive input from all stakeholders—the states, the reporting community and other businesses, community and environmental groups, researchers, and the public.

The stakeholder dialogue process will have two phases. Phase 1 will focus on the reporting, collecting, processing, and annual release of the TRI data. Specifically, EPA is seeking comment on ways to: (1) Improve the compliance assistance provided by the TRI program, both at Headquarters and in the Regions, to aid the reporting community; (2) streamline the collection and processing of the more than 90,000 TRI forms that EPA receives annually; and (3) improve the materials, including the context, documents and tools, that EPA develops for its annual public release of the TRI data to support their use and analysis of the data.

The on-line dialogue will be the first opportunity for stakeholder input in Phase 1. Once the dialogue has been analyzed, additional opportunities may be extended in the form of public meetings, more formal comment periods, or other methods which will be described in future notices.

Phase 2 of the stakeholder dialogue will focus on future directions for the program, including what data are collected in the TRI, how these data are characterized, and whether additional data should be collected. One key element will be clarifying the data elements on recycling and other waste management activities required by the Pollution Prevention Act. A future Federal Register notice will announce Phase 2.

III. Availability of Documents

EPA is making available three papers which describe aspects of the TRI Program and raise issues for stakeholder discussion. The scope of each paper corresponds to a phase of the annual TRI reporting cycle. TRI data for a calendar year must be reported to EPA by July 1st after the end of that calendar year. Therefore, reporting years are the same as calendar years. The “reporting cycle” begins with EPA's compliance assistance activities, including the development of reporting forms and instructions that are generally mailed to facilities in March each year. Once EPA receives the forms, it enters the data from the forms (over 91,000 in 2000) in the TRI database. After entry into the database, EPA runs a series of data quality checks on both the facility identification information and on the chemical-specific data. After the data entry and data quality steps are completed, the TRI database is “frozen” for analysis and development of data products for release to the public. Generally, EPA announces the annual release of the TRI data by holding a press event or issuing a press release, and simultaneously notifying a wide range of stakeholders.

The first background paper for this stakeholder dialogue is entitled TRI Data Collection, Processing and Management, and addresses the TRI data process beginning with submission of the forms and ending at the data “freeze.” The second paper, TRI Data Release Issue Paper discusses TRI data products, the process for analyzing and releasing the TRI data, uses of the data, and issues and considerations associated with these aspects of the TRI program. The third paper is TRI Compliance Assistance Activities. TRI compliance assistance activities are carried out throughout the year with certain of the activities being closely aligned with the reporting cycle.

Dated: October 4, 2002.
Elaine G. Stanley,
Director, Office of Information Analysis and Access.

[FR Doc. 02-26175 Filed 10-11-02; 8:45 am]

BILLING CODE 6561-07-P